DEPARTMENT OF DEFENSE

Department of the Army

Availability for Non-Explosive, Exclusive, or Partially Exclusive Licensing of U.S. Patent Application Concerning a Novel HIV Suppressor Factor Derived From Scrub Typhus

AGENCY: U.S. Army Medical Research and Material Command, Department of the Army, DoD.

ACTION: Notice.

SUMMARY: In accordance with 37 CFR 404.6, announcement is made of the availability for licensing of U.S. Patent Application Serial No. 09/377,743 entitled “Novel HIV Suppressor Factor Derived from Scrub Typhus,” filed August 20, 1999. This patent has been assigned to the United States Government as represented by the Secretary of the Army.

ADDRESSES: Commander, U.S. Army Medical Research and Material Command, ATTN: Command Judge Advocate, MCMR-JA, 504 Scott Street, Fort Detrick, Frederick, Maryland 21702-5012.

FOR FURTHER INFORMATION CONTACT: Elizabeth Arwine, Patent Attorney, (301) 619-2065 or telefax (301) 619-5034.

SUPPLEMENTARY INFORMATION: The invention takes advantage of the anti-HIV effects of an inhibitory factor produced during scrub typhus infection. It is the object of the invention to provide a method of inducing an immunogenic response to human immunodeficiency virus (HIV), in particular to HIV-1. It is a further object of the invention to provide a suppressor factor derived from scrub typhus infection in the form of purified sera, plasma, or immunogolobulin which is suitable for administration to patents at rink for , or infected with, HIV either alone or in combination with other agents. It is a particular object of the invention to provide an isolated suppressor factor from sera or plasma taken from patients with scrub typhus which has anti-HIV activity. It is also a further object in the invention to provide peptides from inhibitory strains of scrub typhus, which peptides function as antigens and can be used to produce antibodies effective for the prophylaxis and treatment of HIV infection.

Gregory D. Showalter,
Army Federal Register Liaison Officer.

[FR Doc. 00-16402 Filed 6-28-00; 8:45 am]

BILLING CODE 3710-08-M